GOVERNMENT ACCOUNTABILITY OFFICE

Request for Nominations for the Physician-Focused Payment Model Technical Advisory Committee (PTAC)

AGENCY: Government Accountability Office (GAO).

ACTION: Request for letters of nomination and resumes.

SUMMARY: The Medicare Access and CHIP Reauthorization Act of 2015 established the Physician-Focused Payment Model Technical Advisory Committee to provide comments and recommendations to the Secretary of Health and Human Services on physician payment models and gave the Comptroller General responsibility for appointing its members. GAO is now accepting nominations of individuals for this committee.

DATES: Letters of nomination and resumes should be submitted no later than July 19, 2019, to ensure adequate opportunity for review and consideration of nominees prior to appointment. Appointments will be made in October 2019.

ADDRESSES: Submit letters of nomination and resumes by either of the following methods:

Email: PTACcommittee@gao.gov. Include PTAC Nominations in the subject line of the message, or Mail: U.S. GAO, Attn: PTAC Nominations, 441 G Street NW, Washington, DC 20548.

FOR FURTHER INFORMATION CONTACT: Greg Giusto at (202) 512-8268 or giustog@gao.gov if you do not receive an acknowledgement within a week of submission or if you need additional information. For general information, contact GAO's Office of Public Affairs, (202) 512-4800.

Authority: Pub. L. 114-10, Sec. 101(e), 129 Stat. 87, 115 (2015).

Gene L. Dodaro,
Comptroller General of the United States.

[FR Doc. 2019-13249 Filed 6-20-19; 8:45 am]

BILLING CODE 1610-02-P